DEPARTMENT OF THE INTERIOR

Bureau of Land Management

[LLCOSO93300.L16100000.LXLUBGWC0000.DO0000.22X]

Notice of Intent To Amend Colorado Resource Management Plans Regarding Big Game Conservation and Prepare an Associated Environmental Impact Statement

AGENCY: Bureau of Land Management, Interior.

ACTION: Notice of intent.

SUMMARY: In compliance with the National Environmental Policy Act of 1969, as amended (NEPA), and the Federal Land Policy and Management Act of 1976, as amended (FLPMA), the Bureau of Land Management (BLM) Colorado State Director intends to prepare a statewide Resource Management Plan (RMP) Amendment with an associated Environmental Impact Statement (EIS), and by this notice is announcing the beginning of the public scoping period to solicit public comments and identify issues and is providing the planning criteria for public review.

DATES: The BLM requests the public submit comments concerning the scope of the analysis, potential alternatives, and identification of relevant information and studies by September 2, 2022. To afford the BLM the opportunity to consider issues raised by commenters in the Draft RMP/EIS, please ensure your comments are received prior to the close of the 45-day scoping period. The date(s) and location(s) of any public meetings associated with this land use planning initiative will be announced at least 15 days in advance through local news media, newspapers, and the BLM website at: https://go.usa.gov/xzXxY.

ADDRESSES: You may submit comments related to this RMP amendment for big game conservation by any of the following methods:

• Website: https://go.usa.gov/xzXxY

• Mail: BLM Colorado State Office, Attn: Big Game Corridor Amendment/EIS, 2850 Youngfield St., Lakewood, CO 80215

Documents pertinent to this proposal may be examined online at https://go.usa.gov/xzXxY and at the planning initiative electronically via the ePlanning website and at all BLM District Offices and Field Offices throughout Colorado and the Colorado State Office at the address above.

FOR FURTHER INFORMATION CONTACT: Alan Bittner, Deputy State Director—Resources, telephone 303-239-3768; at the mailing address above; or email BLM_CO_corridors_planning@blm.gov. Contact Mr. Bittner to have your name added to the mailing list. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: This document provides notice that the BLM Colorado State Director intends to prepare an RMP amendment with an associated EIS for big game habitat conservation, announces the beginning of the scoping process, and seeks public input on relevant issues and planning criteria. The RMP amendment is being considered to evaluate oil and gas program and other management decisions across existing BLM Colorado RMPs to promote conservation of big game corridors and other important big game habitat on BLM-administered land and minerals in Colorado.

This RMP Amendment may amend existing BLM RMPs in Colorado, except the following three plans may not be amended because minerals are withdrawn: Browns Canyon National Monument, Dominguez-Escalante National Conservation Area, and McInnis Canyons National Conservation Area. The planning area includes all 64 counties in Colorado and encompasses approximately 8.3 million acres of BLM-managed surface land and approximately 27 million acres of Federal mineral estate. This acreage includes Federal minerals on Federal lands and split-estate Federal minerals located under surface lands with non-Federal ownership. The decision area includes all BLM public lands and approximately 4.6 million acres of split-estate private, local government, and state lands. It does not include National Forest System land and other Federal land where BLM does not make planning decisions about oil and gas management or other uses. The BLM typically adopts the requirements determined by those Federal surface-managing agencies when leasing the associated mineral estate; while such lands are within the planning area, they are outside the decision area for this RMP Amendment process. In Colorado, the BLM currently manages 4,712 Federal oil and gas leases totaling 3.7 million acres.

The scope of this land use planning process does not include addressing the evaluation or designation of areas of critical environmental concern (ACECs) and the BLM is not considering ACEC nominations as part of this process.

Purpose and Need

The BLM is initiating this land use planning process under the authority of Section 202 of FLPMA, in compliance with FLPMA, NEPA, and their implementing regulations, for the preliminary purpose of evaluating alternative management approaches for the BLM planning decisions to maintain, conserve, and protect big game corridors and other important big game habitat areas on BLM-managed public lands and minerals in Colorado. This action is needed to ensure that the BLM considers current big game population and habitat data, including maps of high priority habitat, and to evaluate management consistency with plans or policies and programs of other Federal agencies, State and local governments, and Tribes, to the extent consistent with Federal laws, regulations, policies and programs applicable to public lands. The BLM also has a need for the development of this RMP amendment to comply with terms of the settlement agreement for State of Colorado v. Bureau of Land Management, 1:21-cv-00129 (D. Colo.).

The BLM may refine the preliminary purpose and need for the action based on comments or data received during the scoping period and further review of its own resource information.

Preliminary Alternatives

BLM Colorado contains millions of acres of important big game habitat. Among other threats, high density surface disturbing activities associated with oil and gas development can interfere with movement across the landscape. The BLM will propose and analyze, with the best available scientific methods and information, alternatives for planning-scale oil and gas management prescriptions for the conservation of important big game habitat. The BLM has found that existing BLM land use plans in Colorado may be inconsistent with other plans for management of big game corridors and important habitat. Recognizing the State's responsibility to conserve and manage big game species for the use, benefit, and enjoyment of the people of Colorado, BLM will consider at least one alternative that would adopt State agency recommendations to avoid and minimize impacts from oil and gas leasing and development to big game high priority habitat.

The BLM will consider whether to incorporate new or changed oil and gas management decisions in existing land use plans, such as limits on high-density development, including facility and route density limitations, and other lease stipulations that would incorporate conservation measures for important big game habitat areas in Colorado. These may include moderate constraints, such as timing limitations and controlled surface use restrictions, and major constraints such as no surface occupancy restrictions. The BLM also may consider closure of areas to future oil and gas leasing as part of the plan amendment. The BLM will consider new decisions pertinent to all BLM surface land and subsurface mineral estate, subject to valid existing rights. Planning decisions under the action alternatives could affect future oil and gas leasing; development of existing leases would be required to conform to the objectives of new planning decisions to the extent consistent with the applicable lease terms.

The BLM will consider new resource management planning decisions related to important habitat areas for the following big game species consistent with Secretarial Order 3362, specifically for elk, mule deer, and pronghorn. Important habitat areas for these species may include migration corridors, severe winter range, winter concentration areas, concentration areas, and production areas, along with other habitat components necessary to support herd viability. The BLM does not anticipate considering new planning decisions for bighorn sheep habitat, which primarily occurs at higher elevations with low oil and gas potential.

The public is invited to comment on information for the preliminary alternatives, including information about the relationships among oil and gas management, big game habitat management, and other public land resources and uses. This information will inform the range of BLM's alternatives in the EIS. The BLM seeks information related to all high-density activities and public land uses that may cause disturbance to important big game habitat and will consider that information as appropriate in determining if additional land use planning decisions are appropriate to incorporate into the scope of the alternatives for this planning effort.

Planning Criteria

The planning criteria guide the planning effort and support effects analysis by helping the agency refine the planning issues and their analytical frameworks. The BLM has identified the following preliminary planning criteria to guide development of the RMP Amendment, and is accepting public input during the scoping period consistent with 43 CFR 1610.4-2(c):

• The RMP Amendment and associated environmental analysis will be completed in compliance with FLPMA, NEPA, and other Federal laws, Executive Orders, regulations, and management policies of the BLM;

• All existing land use plan decisions that are not affected by the amendment will remain in effect after issuance of the Record of Decision;

• The RMP Amendment may be limited to land use planning decisions specific to oil and gas management as they relate to the conservation of big game species including mule deer, elk, and pronghorn, and their important habitats. Important habitats may include migration corridors, severe winter range, winter concentration areas, concentration areas, and production areas;

• The BLM will consider the adequacy of big-game conservation measures in existing land use plans;

• The analysis in the EIS for the RMP Amendment will consider the effects of the alternatives together with the effects of past and reasonably foreseeable disturbance to big-game habitat;

• The BLM will strive for consistency with plans or policies and programs of other Federal agencies, State and Local governments, and Tribes, to the extent those plans, policies, and programs are consistent with the Federal laws, regulations, policies, and programs applicable to public lands;

• The BLM will endeavor to use current scientific information (including inventory and monitoring data) and technologies to determine appropriate management strategies to protect and conserve important habitat;

• Lands within the decision area for the RMP Amendment will be BLM-managed public lands and split-estate lands with Federal minerals; and

• The RMP Amendment will not diminish valid existing rights.

Summary of Expected Impacts

BLM personnel have identified the following potential effects to be examined during the planning process: effects of potential oil and gas leasing and development and related infrastructure on big game species and habitat; and effects of alternative oil and gas restrictions on biological, physical, and heritage resources, resource uses, and social and economic conditions. Affected resources may include big game and other wildlife, air quality, climate, oil and gas, and lands with special designations. The BLM is accepting public input on these issues during the scoping period, consistent with 43 CFR 1610.4-1. The EIS will describe the environment of the planning area that could be affected by the alternatives under consideration and will evaluate reasonably foreseeable impacts from potential oil and gas leasing and future development, and potential restrictions on leasing and development activities in important big game habitat.

The public is invited to comment on information and analyses relevant to the proposed action, including information about the relationships among oil and gas management, big game habitat management, and other public land resources and uses. This information will inform the scope of BLM's impact analysis in the EIS. The BLM seeks information related to all high-density activities and public land uses that may cause disturbance to important big game habitat and will consider that information as appropriate in describing the existing environment and reasonably foreseeable trends, or in the effects analysis.

Schedule for the Decision-Making Process

This amendment process is expected to be completed within two years. The BLM will provide additional opportunities for public participation consistent with the NEPA and land use planning processes, including a 90-day comment period on the Draft RMP Amendment/EIS and a concurrent 30-day public protest period and a 60-day Governor's consistency review on the Proposed RMP Amendment. The Draft RMP Amendment/EIS is anticipated to be available for public review in the spring of 2023 and the Proposed RMP Amendment/Final EIS is anticipated to be available for public protest of the Proposed RMP Amendment in early 2024 with an Approved RMP Amendment and Record of Decision in summer of 2024.

Public Scoping Process

This notice of intent initiates the scoping period and public review of the planning criteria, which guide the development of the Draft RMP Amendment/EIS and its analysis. The BLM anticipates holding four public scoping meetings, which may be conducted through online platforms to explain project details and obtain feedback. Representatives from BLM will be available to answer questions. The specific date(s) of these scoping meetings, along with information about how to participate, will be announced at least 15 days in advance through local media, newspapers, and the BLM's project website (see ADDRESSES). All comments must be received by the date shown in the DATES section. It is important that reviewers provide timely comments in a manner that makes them useful to the agency's preparation of the Draft RMP Amendment/EIS. Therefore, comments should clearly articulate the reviewer's concerns and contentions. Comments received in response to this solicitation, including names and addresses of those who comment, will be part of the public record for this proposed action. Comments submitted anonymously will be accepted and considered.

Lead and Cooperating Agencies

The BLM is the lead agency for the NEPA analysis associated with this planning effort. The BLM has invited other Federal agencies, State and local government agencies, and Tribes to be cooperating agencies. Other stakeholders that may be interested in or affected by the proposed action are invited to participate in the scoping process and, if eligible, may request or be requested by the BLM to participate in the development of the EIS as a cooperating agency.

Responsible Official

The BLM Colorado State Director is the deciding official for this planning effort.

Nature of Decision To Be Made

The nature of the decision to be made will be the State Director's selection of land use planning decisions for managing BLM-administered lands under the principles of multiple use and sustained yield in a manner that best addresses the purpose and need.

Interdisciplinary Team

The BLM will use an interdisciplinary approach that incorporates the expertise of specialists in relevant resource fields such as wildlife biology, fluid minerals, geographic information systems, and land use planning to consider the resource issues and concerns identified during development of the RMP Amendment.

Additional Information

The BLM will identify, analyze, and consider mitigation to address the reasonably foreseeable impacts to resources from the proposed plan amendment and all reasonable alternatives and, in accordance with 40 CFR 1502.14(f), include appropriate mitigation measures not already included in the proposed plan amendment or alternatives. Mitigation may include avoidance, minimization, rectification, reduction or elimination over time, and compensation; it may be considered at multiple scales, including the landscape scale.

The BLM will utilize and coordinate the NEPA and land use planning processes for this planning effort to help support compliance with applicable procedural requirements of the Endangered Species Act (16 U.S.C. 1536) and Section 106 of the National Historic Preservation Act (54 U.S.C. 306108) as implemented in 36 CFR 800.2(d)(3), including the public involvement requirements associated with Section 106. The information about historic and cultural resources and threatened and endangered species within the area potentially affected by the proposed plan amendment will assist the BLM in identifying and evaluating impacts to such resources.

The BLM will consult with Indian Tribal Nations on a government-to-government basis in accordance with Executive Order 13175, BLM Manual Section 1780 and other Departmental policies. Tribal concerns, including impacts on Indian trust assets and potential impacts to cultural resources, will be given due consideration. Federal, State, and local agencies, along with Indian Tribal Nations and other stakeholders that may be interested in or affected by the proposed plan amendment that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 40 CFR 1501.9 and 43 CFR 1610.2)

Stephanie Connolly,
Acting BLM Colorado State Director.

[FR Doc. 2022-15388 Filed 7-18-22; 8:45 am]

BILLING CODE 4310-JB-P